ENVIRONMENTAL PROTECTION AGENCY

[FRL-6709-7]

Guam; Final Program Determination of Adequacy of State Municipal Solid Waste Landfill Permit Program

AGENCY: Environmental Protection Agency (EPA).

ACTION: Notice of final determination of adequacy of Guam's municipal solid waste landfill permit program.

SUMMARY: On August 24, 1998 Guam applied for a determination of adequacy of its municipal solid waste landfill permit program under section 4005 of the Resource Conservation and Recovery Act (RCRA). This section requires States to develop and implement permit programs that ensure that Municipal Solid Waste Landfills (MSWLFs) which may receive hazardous household waste or small quantity generator waste are obligated to comply with the revised Federal MSWLF Criteria (40 CFR part 258). RCRA section 4005(c)(1)(C) requires the Environmental Protection Agency (EPA) to determine whether States have adequate “permit” programs for MSWLFs, but does not mandate issuance of a rule for such determination. Guam is identified as a “State” in 40 CFR 258.2.

Guam applied for a determination of adequacy under section 4005 of RCRA. EPA reviewed Guam's application and proposed a determination that Guam's MSWLF permit program is adequate to ensure compliance with the revised MSWLF Criteria. Further background on the tentative determination of adequacy appears at 64 FR 54013, Oct. 5, 1999. Along with the tentative determination, EPA announced the availability of the application for public comment. EPA offered to hold a public hearing if a sufficient number of people requested such a hearing. There were no requests for a public hearing, so a hearing was not held. EPA did not receive any comments on Guam's application. Therefore, EPA is today issuing a final determination that the State's program is adequate.

The full Guam application is on file and may be reviewed at the regional EPA office in San Francisco, California or alternatively at the offices of the Guam Environmental Protection Agency, Calibration Laboratory Building, 15-6101 Mariner Avenue, Tiyan, Barrigada, Guam.

Today's action takes effect without further notice in 60 days unless the Agency receives relevant adverse comment or notice that someone intends to submit a relevant adverse comment within 30 days. Should the Agency receive such comments or notice, it will publish a timely notice informing the public that this rule has not taken effect.

FINAL ACTION: Guam is granted full program determination of adequacy for all areas of its municipal solid waste landfill permit program. By this action, EPA is granting Guam full program determination of adequacy for all parts of its municipal solid waste landfill permit program.

EFFECTIVE DATE: The determination of adequacy for Guam shall be June 6, 2000.

FOR FURTHER INFORMATION CONTACT: Ms Heidi Hall, WST-7, U.S. EPA 75 Hawthorne Street, San Francisco, CA 94105, (415) 744-1284.

SUPPLEMENTARY INFORMATION:

Administrative Requirements

A. Executive Order 12866

The Office of Management and Budget has exempted this regulatory action from Executive Order 12866 review.

B. Certification Under the Regulatory Flexibility Act

Pursuant to the provisions of 5 U.S.C. 605(b), I hereby certify that this final approval will not have a significant impact on a substantial number of small entities. It does not impose any new burdens on small entities. This notice, therefore, does not require a regulatory flexibility analysis.

C. Unfunded Mandates Act

Under section 202 of the Unfunded Mandates Reform Act of 1995, EPA must prepare a budgetary impact statement to accompany any proposed or final rule that includes a federal mandate that may result in estimated costs to state or local governments in the aggregate, or to the private sector, or $100 million or more. The EPA has determined that the approval action being promulgated does not include a federal mandate that may result in estimated costs of $100 million or more to either state or local governments in the aggregate, or to the private sector. This federal action approves preexisting requirements under state law, and imposes no new requirements. Accordingly, no additional costs to State or local governments, or to the private sector, result from this action.

D. Executive Order 12875

Executive Order 12875 is intended to develop an effective process to permit elected officials and other representatives of state or local governments to provide meaningful input in the development of regulatory proposals containing significant unfunded mandates. Since this final federal action approves preexisting requirements of state law, no new unfunded mandates result from this action. See also the discussion under C, above, Unfunded Mandates Act.

E. Executive Order 13045

Executive Order 13045, effective April 21, 1997, concerns protection of children from environmental health and safety risks, and applies to regulatory action that is “economically significant” in that such action may result in an annual effect on the economy of $100 million or more. The EPA has determined that the approval action being promulgated will not have a significant effect on the economy. This federal action approves preexisting requirements under state law, and imposes no new requirements. Accordingly, Executive Order 13045 does not apply to this action.

F. Congressional Review Act

Under 5 U.S.C. 801(a)(1)(A), as added by the Small Business Regulatory Enforcement Fairness Act of 1996, EPA submitted a report containing this action and other required information to the U.S. Senate, the U.S. House of Representatives and the Comptroller General of the General Accounting Office prior to publication of this action in today's Federal Register. This action is not a “major rule” as defined by 5 U.S.C. 804(2).

Authority: This notice is issued under the authority of section 4005 of the Solid Waste Disposal Act, as amended, 42 U.S.C. 6946.

Dated: May 23, 2000.
Felicia Marcus,
Regional Administrator, Region IX.

[FR Doc. 00-14179 Filed 6-5-00; 8:45 am]

BILLING CODE 6560-50-P